SMALL BUSINESS ADMINISTRATION

Public Federal Regulatory Enforcement Fairness Hearing; Region IV Regulatory Fairness Board

The U.S. Small Business Administration (SBA) Region IV Regulatory Fairness Board and the SBA Office of the National Ombudsman will hold a public hearing on Wednesday, March 14, 2007, at 10 a.m. The meeting will take place at Wake Tech CC Business & Industry Center (BIC), Millpond Village, 3434 Kildaire Farm Road, Room 118, Cary, NC 27518. The purpose of the meeting is to receive comments and testimony from small business owners, small government entities, and small non-profit organizations concerning regulatory enforcement and compliance actions taken by Federal agencies.

Anyone wishing to attend or to make a presentation must contact Mike Ernandes, in writing or by fax, in order to be placed on the agenda. Mike Ernandes, Public Information Officer, SBA, Charlotte District Office, 6302 Fairview Road, Suite 300, Charlotte, NC 28210-2227, phone (704) 344-6588, Ext. 1135 and fax (202) 401-4637, e-mail: Mike.ernandes@sba.gov.

For more information, see our Web site at http://www.sba.gov/ombudsman.

Matthew Teague,
Committee Management Officer.

[FR Doc. E7-4376 Filed 3-9-07; 8:45 am]

BILLING CODE 8025-01-P